DEPARTMENT OF TRANSPORTATION

Federal Highway Administration

Notice of Final Federal Agency Action on Proposed Highway in Illinois

AGENCY: Federal Highway Administration (FHWA), DOT.

ACTION: Notice of limitation on claims for judicial review of actions by FHWA and other Federal agencies.

SUMMARY: This notice announces actions taken by the FHWA and other Federal agencies that are final within the meaning of 23 U.S.C. 139(l)(1). The actions relate to the proposed Illinois Route 336 (IL 336) highway project, for construction of an access-controlled, four-lane expressway on new right-of-way between the proposed Macomb Bypass in McDonough County, passing through Fulton County to Interstate 474 (I-474) on the west side of Peoria in Peoria County, Illinois. Those actions grant licenses, permits and approvals for the project.

DATES: By this notice, the FHWA is advising the public of final agency actions subject to 23 U.S.C. 139(l)(1). A claim seeking judicial review of the Federal agency actions of the highway project will be barred unless the claim is filed on or before December 19, 2011. If the Federal law that authorizes judicial review of a claim provides a time period of less than 180 days for filing such claim, then that shorter time period still applies.

FOR FURTHER INFORMATION CONTACT: Mr. Norman R. Stoner, P.E., Division Administrator, Federal Highway Administration, 3250 Executive Park Drive, Springfield, Illinois 62703, Phone: (217) 492-4600, E-mail address: Norman.Stoner@fhwa.dot.gov. The FHWA Illinois Division Office's normal business hours are 7:30 a.m. to 4:15 p.m. You may also contact Mr. Joseph E. Crowe, P.E., Illinois Department of Transportation, Deputy Director of Highways, Region Three Engineer, 401 Main Street, Peoria, Illinois 61602, Phone: (309) 671-3333. The Illinois Department of Transportation Region Three's normal business hours are 8 a.m. to 4:30 p.m.

SUPPLEMENTARY INFORMATION: Notice is hereby given that the FHWA and other Federal agencies have taken final agency actions by issuing licenses, permits and approvals for the following highway project in the State of Illinois: Construction of an approximately 60-mile, access-controlled, four-lane expressway on new right-of-way between the proposed Macomb Bypass in McDonough County, passing through Fulton County to Interstate 474 (I-474) on the west side of Peoria in Peoria County, Illinois. The actions by the Federal agencies, and the laws under which such actions were taken, are described in the Final Environmental Impact Statement (FEIS) for the project approved on March 3, 2011, the Record of Decision (ROD) issued on June 14, 2011, and other documents in the FHWA administrative record. The FEIS, ROD and other documents in the FHWA administrative record are available by contacting FHWA or the Illinois Department of Transportation at the addresses above. Project information can be viewed and downloaded from the project Web site http://www.dot.il.gov/il336/default.aspx. The FEIS can also be downloaded from http://www.dot.il.gov/desenv/env.html, or hard copies of the FEIS and the ROD are available upon request.

This notice applies to all Federal agency decisions as of the issuance date of this notice and all laws under which such actions were taken, including, but not limited to:

1. General: National Environmental Policy Act (NEPA) [42 U.S.C. 4321-4351] Federal-Aid Highway Act [23 U.S.C. 109].

2. Air: Clean Air Act [42 U.S.C. 7401-7671(q)].

3. Land: Section 4(f) of the Department of Transportation Act of 1966 [49 U.S.C. 303].

4. Wildlife: Endangered Species Act [16 U.S.C. 1531-1544 and Section 1536]; Migratory Bird Treaty Act [16 U.S.C. 703-712].

5. Historic and Cultural Resources: Section 106 of the National Historic Preservation Act of 1966, as amended [16 U.S.C. 470(f) et seq.]; Archaeological and Historic Preservation Act (AHPA) [16 U.S.C. 469-469(c)].

6. Social and Economic: Civil Rights Act of 1964 [42 U.S.C. 2000(d)-2000(d)(1)]; Farmland Protection Policy Act (FPPA) [7 U.S.C. 4201-4209].

7. Wetlands and Water Resources: Clean Water Act (Section 401 and 404) [33 U.S.C. 1251-1377]; Wild and Scenic Rivers Act [16 U.S.C. 1271-1287].

8. Executive Orders: E.O. 11990 Protection of Wetlands; E.O. 11988 Floodplain Management; E.O. 12898 Federal Actions to Address Environmental Justice in Minority Populations and Low Income Populations.

(Catalog of Federal Domestic Assistance Program Number 20.205, Highway Research, Planning and Construction. The regulations implementing Executive Order 12372 regarding intergovernmental consultation on Federal programs and activities apply to this program.)

Authority: 23 U.S.C. 139(l)(1).

Issued on: June 14, 2011.
Norman R. Stoner,
Division Administrator, Springfield, Illinois.

[FR Doc. 2011-15576 Filed 6-21-11; 8:45 am]

BILLING CODE 4910-RY-P